LEGAL SERVICES CORPORATION

Notice of Availability of Calendar Year 2003 Competitive Grant Funds

AGENCY: Legal Services Corporation.

ACTION: Solicitation for Proposals for the Provision of Civil Legal Services; correction.

SUMMARY: The Legal Services Corporation (LSC) published a notice in the Federal Register of April 22, 2002 (67 FR 19597) concerning the availability of competitive grant funds for the provision of civil legal services to low income people. The notice contained incorrect service area codes for the state of Louisiana. The correct service area codes for the state of Louisiana are LA-1 and LA-12.

FOR FURTHER INFORMATION CONTACT: Office of Program Performance by FAX at (202)336-7272, by e-mail at competition@lsc.gov, or visit the LSC Web site at www.ain.lsc.gov.

ADDRESSES: Legal Services Corporation—Competitive Grants, 750 First Street NE., 10th Floor, Washington, DC 20002-4250.

SUPPLEMENTARY INFORMATION: The Legal Services Corporation (LSC) published a notice in the Federal Register of April 22, 2002 (67 FR 19597) concerning the availability of competitive grant funds for the provision of civil legal services to low income people. The notice contained incorrect service area codes for the state of Louisiana. The correct service area codes for the state of Louisiana are LA-1 and LA-12.

The Request for Proposals (RFP) is available at www.ain.lsc.gov. Applicants must file a Notice of Intent to Compete (NIC) to participate in the competitive grants process. Applicants competing for service areas in Louisiana must file the NIC by May 24, 2002, 5:00 p.m. ET. The due date for filing grant proposals for service areas in Louisiana is June 24, 2002, 5:00 p.m. ET.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials. LSC will not FAX the RFP to interested parties.

Service area descriptions are available from Appendix A of the RFP. Interested parties are asked to visit www.ain.lsc.gov regularly for updates on the LSC competitive grants process.

Michael A. Genz,
Director, Office of Program Performance, Legal Services Corporation.

[FR Doc. 02-11350 Filed 5-7-02; 8:45 am]

BILLING CODE 7050-01-P